DEPARTMENT OF THE INTERIOR

Dakotas Advisory Council Meeting

AGENCY: Bureau of Land Management, North Dakota Field Office, Interior.

ACTION: Notice of meeting.

SUMMARY: A meeting of the Dakotas Resource Advisory Council will be held August 20 & 21, 2001, at the Travel Lodge, Dickinson, North Dakota. The session will convene at 8 a.m. on August 20th. A field trip to the Coteau Mine is scheduled for the 21st. Agenda items will include off highway vehicles, energy activities on public lands, Homestake exchange, discussion on Payment-In-Lieu of Taxes, and Fire and Fuel Reductions.

The meeting is open to the public and a public comment period is set for 4 pm on August 20, 2001. The public may make oral statements before the Council or file written statements for the Council to consider. Depending on the number of persons wishing to make an oral statement, a per-person time limit may be established. Summary minutes of the meeting will be available for public inspection and copying.

The 15-member Council advises the Secretary of the Interior, through the BLM, on a variety of planning and management issues associated with public land management in the Dakotas.

FOR FURTHER INFORMATION CONTACT: Douglas Burger, Field Office Manager, North Dakota Field Office, 2933 3rd Ave. W., Dickinson, North Dakota. Telephone (701) 227-7700.

Dated: June 21, 2001.
Douglas Burger,
Field Office Manager.

[FR Doc. 01-17136 Filed 7-9-01; 8:45 am]

BILLING CODE 4310-10-P